DEPARTMENT OF THE TREASURY

Internal Revenue Service

26 CFR Part 1

[TD 9502]

RIN 1545-BF90

Exclusions From Gross Income of Foreign Corporations; Correction

AGENCY: Internal Revenue Service (IRS), Treasury.

ACTION: Correcting amendment.

SUMMARY: This document contains corrections to final regulations (TD 9502) that were published in the Federal Register on Friday, September 17, 2010 (75 FR 56858) under section 883(a) and (c) of the Internal Revenue Code, concerning the exclusion from gross income of income derived by certain foreign corporations from the international operation of ships or aircraft.

DATES: This correction is effective on October 15, 2010, and is applicable on September 17, 2010.

FOR FURTHER INFORMATION CONTACT: Patricia A. Bray, (202) 622-3880 (not a toll-free number).

SUPPLEMENTARY INFORMATION:

Background

The final regulations (TD 9502) that are the subject of this document are under section 883 of the Internal Revenue Code.

Need for Correction

As published, the final regulations (TD 9502) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.883-2 is amended by revising paragraph (f)(4)(ii)(C) to read as follows:

§ 1.883-2 Treatment of publicly-traded corporations.

* * * * *

(f) * * *

(4) * * *

(ii) * * *

(C) The number of days during the taxable year of the foreign corporation that such qualified shareholders owned, directly or indirectly, their shares in the closely held block of stock.

* * * * *

Par. 3. Section 1.883-5 is amended by revising the heading of paragraph (d) to read as follows:

§ 1.883-5 Effective/applicability dates.

* * * * *

(d) Effective/applicability dates. * * *

LaNita Van Dyke,
Chief, Publications and Regulations Branch, Legal Processing Division, Associate Chief Counsel (Procedure and Administration).

[FR Doc. 2010-25950 Filed 10-14-10; 8:45 am]

BILLING CODE 4830-01-P